DEPARTMENT OF DEFENSE

Department of the Air Force

Nationwide Categorical Waivers Under Section 1605 (Buy American) of the American Recovery and Reinvestment Act of 2009 (Recovery Act)

AGENCY: Department of the Air Force, 772d Enterprise Sourcing Squadron, DoD.

ACTION: Notice—Nationwide Categorical Waivers under Section 1605 (Buy American) of the American Recovery and Reinvestment Act of 2009 (Recovery Act).

SUMMARY: The U.S. Department of Air Force, 772d ESS/PK, Senior Center Contracting Official (SOCO) hereby provides notice that on 4 March 2011 a waiver of the Buy American requirements of the American Recovery and Reinvestment Act of 2009, Public Law 1115 (Recovery Act) under the authority of section 1605(b)(2) [iron, steel, and the relevant manufactured goods are not produced in the United States in sufficient and reasonably available quantities and of satisfactory quality] for the of the following construction items to be incorporated into the project FTQW094001 for the construction and replacement of military family housing units at Eielson AFB, Alaska under task order FA8903-06-D-8505-0019. The items are 1″ Collated Screws, Shank #10; 1-½″ (Taco) Air Scoops for Hydronic Heating Systems; 1-⅝″ Ceramic Coated Bugle Head Course Thread Screws; 2″ (Taco) Air Scoops for Hydronic Heating Systems; 2-½″ (Taco) Air Scoops for Hydronic Heating Systems; 2-½″ Collated Screws; 3″ Ceramic Coated Bugle Head Course Thread Screws; 3″ Spool Insulators; ¾″ Collated Screws, Shank #10; 3″;Bolt Guy Clamp; Ceiling Fan; Ceiling Fan w/Light Kit; Door Hinge Pin Stops; Exterior Wall Mount Two Head Flood Light w/270 Degree Motion Sensor & Brushed Nickel Finish; Ground Fault Circuit Interrupt (GFCI) Receptacles; Handrail Brackets; Maclean Power Systems Guy Attachment; Residential Style Satin Chrome Handrail Bracket; Satin Nickel Outdoor Sconce Light Fixture; Tamper-Resistant Ground Fault Circuit Interrupt (GFCI) Receptacles; Weather-Resistant Ground Fault Circuit Interrupt (GFCI) Receptacles; Pendant Bar Light Fixture; 24″ Bath Vanity Light Fixture; Pendant Chandelier Light Fixture; Linear Fluorescent Ceiling Lighting Fixture (48″ Lensed Fluorescent w/Dimming Ballast & Satin Aluminum Finish); 48″ Bath Vanity Light Fixture; 20″ Utility Shelf Bracket; Chrome Finish Residential Dishwasher Air Gap Cap Fitting; Satin Chrome Finish Convex Wall Mount Door Stops; Residential Microwave w/Range Hood; Residential Style Polished Chrome Towel Ring; Residential Style Polished Chrome Toilet Paper Holder; Residential Style Polished Chrome Double Robe Hook; Residential Style Bright Stainless Steel 60″ Curved Shower Rod & Flanges; Residential Style Polished Chrome 24″ Towel Bar; Residential Style Polished Chrome 30″ Towel Bar; Satin Nickel Finish Wall Mounted Spring Door Stop.

DATES: Effective Date 4 March 2011.

ADDRESSES: ESS/PK; 2261 Hughes Ave., Ste, 163, Lackland AFB, TX 78236-98612.

FOR FURTHER INFORMATION CONTACT: Sharon Money, Contracting Officer, 772d ESS/PKA, 2261 Hughes Ave., Ste, 163, Lackland AFB, TX 78236-98612.

SUPPLEMENTARY INFORMATION: Section 1605 of the Recovery Act requires that no appropriated funds may be used for the construction, alteration, maintenance, or repair of a public building or public work unless all of the iron, steel, and manufactured goods used in the project are produced in the United States, or unless a waiver is granted by the head of the Federal department or agency. A waiver may be granted if the head of the Federal department or agency determines that one of three exceptions applies: (1) The application of Section 1605 requirements would be inconsistent with the public interest; (2) the iron, steel, or relevant manufactured good is not produced in the United States in sufficient and reasonably available quantities and of satisfactory quality; or (3) the cost of domestic iron, steel or relevant manufactured goods will increase the cost of the overall project by more than 25 percent.

In accordance with Section 1605(c) of the Recovery Act, the Senior Center Contracting Official (SOCO) 772d ESS/PK has determined that the above items of manufactured goods are not produced in the United States in sufficient and reasonably available quantities and of a satisfactory quality.

The domestic nonavailability determination for these products is based on extensive market research and thorough investigation of the domestic manufacturing landscape. This research identified that these products are manufactured almost exclusively in China.

Sharon L. Money,
Contracting Officer, 772d Enterprise Sourcing Squadron.

[FR Doc. 2011-6502 Filed 3-18-11; 8:45 am]

BILLING CODE P